DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-67776, dated October 14, 1980, and corrected at 45 FR 69296, October 20, 1980, as amended most recently at 69 FR 48247-48249, dated August 9, 2004, is amended to reflect the consolidation of the Centers for Disease Control and Prevention budget execution functions within the Financial Management Office, Office of the Chief Operating Officer.

Section C-B, Organization and Functions, is hereby amended as follows:

Revise the functional statement for the Financial Management Office (CAJ2), Office of the Chief Operating Officer (CAJ) as follows:

Delete in their entirety the title and functional statement for the Financial Policy and Internal Quality Assurance Activity (CAJ212).

Delete the functional statement for the Budget Branch (CAJ23) and insert the following:

Budget Execution Branch (CAJ23). (1) Promotes structured, ongoing partnerships between the CIOs, FMO leadership, Lead Budget Analysis, and Budget Execution staff; (2) provides leadership, consultation, guidance, and advice on budgetary matters for the CDC through senior advisory leadership roles in partnership with FMO and CIO Directors; (3) provides submission and execution of the CDC budget within the framework of HHS, OMB, Congressional regulations, and policies of the CDC Office of the Director; (4) supports the functions provided by the Budget Oversight and Analysis Activity and Budget Execution Services Activity; (5) provides leadership, consultation, guidance and advice on financial policy and internal quality assurance matters for CDC; (6) develops, analyzes, and evaluates financial management policies, guidelines, and services which have CDC-wide impact; (7) works with personnel from all disciplines within CEC to identify the areas in which financial policy needs to be strengthened; (8) reviews, assesses, and recommends financial policy that is consistent with internal controls and the hierarchy of Federal and Department of Health and Human Services policies and procedures; (9) ensures that resources are safeguarded against fraud, waste, and abuse; managed economically and efficiently; and desired results are achieved; (10) reviews and independently assesses the soundness, adequacy, and application of budgetary and accounting controls; (11) reviews the reliability and integrity of financial and budget information and the means used to identify, measure, classify, and report such information; (12) reviews the adequacy and effectiveness of systems and procedures having an impact on expenditures of funds and use of resources; and (13) assesses the reliability and accuracy of accounting and budgetary data and reports.

Budget Oversight and Analysis Activity (CAJ232). (1) Supports the formulation of CDC's annual budget and provides agency-level and departmental budget execution functions and reporting; (2) oversees budget execution services provided to terrorism and stockpile, global health, and OC/OCOO functions; (3) develops standard operating procedures for budget processes, collaborates with the Chief Learning Officer and Corporate University to develop appropriate training, and provides technical assistance in the interpretation of rules and regulations.

Budget Execution Services Activity (CAJ233). (1) Provides budget execution services to CIOs; (2) coordinates budget services through formalized and integrated communication with CIO programs throughout its service offering to ensure effective and efficiently delivery of services to its customers; (3) supports the formulation of CIO annual budgets, develops spending plans, and manages budget execution activities ensuring funds are expended in accordance with Congressional intent.

Delete item (4) of the functional statement for the Administrative Services Branch (Spokane) (CC114), Office of Administrative and Management Services (CC11), Office of the Director (CC1), National Institute for Occupational Safety and Health (CC), and renumber the remaining items accordingly.

Delete item (3) of the functional statement for the Office of Program Management and Operations (CE13), Office of the Director (CE1), National Center for Injury Prevention and Control (CE), and insert the following: (3) prepares annual budget formulation and budget justifications.

Delete item (4) of the functional statement for the Office of the Director (CJ1), National Immunization Program (CJ), and insert the following: (4) prepares, reviews, and coordinates informational and programmatic documents.

Delete item (4) of the functional statement for the Planning and Evaluation Office (CK15), Office of the Director (CKI), National Center for HIV, STD, and TB Prevention (CK), and renumber the remaining items accordingly.

Delete item (3) of the functional statement for the Office of the Director (CK61), Global AIDS Program (CK6), and insert the following: (3) provides GAP-wide administrative and management services including personnel, contracts, grants and cooperative agreements, and interagency/reimbursable agreements, travel, facility management, and equipment inventory and coordinates or ensures coordination with the appropriate NCHSTP or CDC staff offices.

Delete item (6) of the functional statement for the Office of the Director (CK61), Global AIDS Program (CK6), and renumber the remaining items accordingly.

Delete item (4) of the functional statement for the Country Program Support (CK63), and insert the following: (4) coordinates with BEB/FMO in the development, disbursement, and oversight of country budgets.

Delete item (6) of the functional statement for the Country Program Support (CK63) in its entirety.

Delete items (2) and (11) of the functional statement for the Program Services Branch (CL17), Office of the Director (CL1), National Center for Chronic Disease Prevention and Health Promotion (CL), and insert the following: (2) provides leadership, planning, coordination, advice, and guidance in the execution and maintenance of the Center's administrative functions;* * *(11) provides overall programmatic direction for planning and management oversight of allocated resources.

Delete item (5) of the functional statement for the Office of the Director (CN1), National Center for Environmental Health (CN), and insert the following: (5) provides overall programmatic direction for planning and management oversight of allocated resources, human resource management and administrative support.

Delete item (5) of the functional statement for the Office of Financial and Administrative Services (CN14), and insert the following: (5) formulates and provides overall programmatic direction for planning and management oversight of allocated resources, human resource management and administrative support.

Delete item (7) of the functional statement for the Office of the Director (CR21), Division of Global Migration and Quarantine (CR2), National Center for Infectious Diseases (CR), and renumber the remaining items accordingly.

Delete item (6) of the functional statement for the Office of the Director (CRJ1), Artic Investigations Program (CRJ), and insert the following: (6) responsible for budget formulation.

Delete items (1), (6) and (8) of the functional statement for the Office of Planning, Budget and Legislation (CS17), Office of the Director (CS1), National Center for Health Statistical (CS), and insert the following: (1) Provides a focus for short and long range statistic programs, policy development, and program analysis; . . . (6) serves as principal advisor in areas of resource development and budget formulation; * * * (provides overall programmatic oversight of allocated resources.

Dated: September 29, 2004.
William H. Gimson,
Chief Operating Officer, Centers for Disease Control and Prevention (CDC).

[FR Doc. 04-22603 Filed 10-7-04; 8:45 am]

BILLING CODE 4160-18-M